DEPARTMENT OF ENERGY

Federal Energy Regulatory Commission

[Project No. 13213-003; Project No. 13214-003]

Lock 14 Hydro Partners, LLC and Lock 12 Hydro Partners, LLC; Notice of Availability of Environmental Assessment

In accordance with the National Environmental Policy Act of 1969 and the Federal Energy Regulatory Commission (Commission or FERC) regulations, 18 Code of Federal Regulations (CFR) Part 380, the Office of Energy Projects has reviewed the applications for original licenses for the Heidelberg Hydroelectric Project (FERC Project No. 13213-003) and Ravenna Hydroelectric Project (FERC Project No. 13214-003). The proposed projects would be located on the Kentucky River in Kentucky. The Heidelberg Project would be located at the Kentucky River Authority's Lock and Dam No. 14, near the Town of Heidelberg, Lee County, Kentucky. The Ravenna Project would be located at the Kentucky River Authority's Lock and Dam No. 12, near the Town of Ravenna, Estill County, Kentucky. No lands managed by the Federal government are located within the project boundary of either project.

Staff prepared a multi-project environmental assessment (EA), which analyzes the potential environmental effects of licensing both projects, and concludes that licensing the projects, with appropriate environmental protection measures, would not constitute a major federal action that would significantly affect the quality of the human environment.

A copy of the EA is available for review at the Commission in the Public Reference Room or may be viewed on the Commission's Web site at http://www.ferc.gov using the “eLibrary” link. Enter the docket number excluding the last three digits, in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

Any comments should be filed within 30 days from the date of this notice.

The Commission strongly encourages electronic filings. Please file comments using the Commission's eFiling system at http://www.ferc.gov/docs-filing/efiling.asp.

Commenters can submit brief comments up to 6,000 characters, without prior registration, using the eComment system at http://www.ferc.gov/docs-filing/ecomment.asp.

You must include your name and contact information at the end of your comments. For assistance, please contact FERC Online Support. In lieu of electronic filing, please send a paper copy to: Secretary, Federal Energy Regulatory Commission, 888 First Street NE., Washington, DC 20426. Please affix “Heidelberg Hydroelectric Project No. 13213-003, and/or Ravenna Hydroelectric Project No. 13214-003” as appropriate to all comments.

For further information, contact Michael Spencer at (202) 502-6093, or by email at michael.spencer@ferc.gov.

Dated: February 24, 2015.
Nathaniel J. Davis, Sr.,
Deputy Secretary.

[FR Doc. 2015-04243 Filed 2-27-15; 8:45 am]

BILLING CODE 6717-01-P